DEPARTMENT OF AGRICULTURE

Forest Service

Umatilla National Forest, Supervisor's Office; Oregon; Kahler Dry Forest Restoration Project

AGENCY: Forest Service, USDA.

ACTION: Notice of intent to prepare an environmental impact statement.

SUMMARY: The USDA, Forest Service will prepare an Environmental Impact Statement (EIS) to analyze impacts for vegetative treatment in the Kahler Creek area of the Heppner Ranger District of the Umatilla National Forest.

The district has started an Environmental Assessment (EA) for the project, but has determined that an Environmental Impact Statement would be more appropriate for this project. Scoping for the EA was open for 30 days in March 2013 and numerous comments were received from the public. These comments were used to form the issues for the EA, and these issues will be carried over to the EIS.

DATES: The draft environmental impact statement is expected September 2014 and the final environmental impact statement is expected February 2015.

FOR FURTHER INFORMATION CONTACT: Ann Niesen, District Ranger, Heppner Ranger District, P.O. Box 7, Heppner, OR 97836.

Individuals who use telecommunication devices for the deaf (TDD) may call the Federal Information Relay Service (FIRS) at 1-800-877-8339 between 8 a.m. and 8 p.m., Eastern Time, Monday through Friday.

SUPPLEMENTARY INFORMATION:

Purpose and Need for Action

Fire suppression and past harvest throughout the Kahler project area have caused a shift in stand density, structure, and species composition away from the range of variability historically associated with dry forests. In turn, this shift has altered the availability and distribution of habitat for terrestrial wildlife species, including Forest Plan Management Indicator Species and Region 6 Sensitive Wildlife Species. There is a shortage of old forest single stratum (OFSS) forest structure, which is characterized by a single overstory layer, with medium to large trees of early successional tree species such as ponderosa pine or western larch. Currently, only 6% of the forested land within the project area is classified as OFSS, whereas historically 40-60% of the forest would have been in this condition.

• Restore, maintain, and promote single stratum old forest structure, moving the area toward its historical range of structure, density, and species composition.

• Maintain and promote old trees (> 150 years old) throughout the project area.

• Provide a supply of commercial forest products to support and maintain local infrastructure.

• Reduce insect and disease risk, where currently outside the historical range, to dry upland forest stands and associated wildlife.

• Reestablish the character of a frequent fire regime to the landscape to aid in maintaining open stand conditions and fire-tolerant species, improve big game forage, and reduce conifer encroachment.

• Reduce encroachment of western juniper into areas where it did not historically occur to improve big game forage, the quality of grassland and steppe-shrubland habitat for wildlife, the diversity and productivity of riparian plant communities, and water availability for native vegetation.

• Provide, develop, and enhance effective and well-distributed habitats throughout the Forest for all existing native and desired nonnative vertebrate wildlife species, particularly those associated with late and old structural stages in dry upland forest stands (e.g. white-headed and Lewis' woodpecker).

• Provide for a high level of potential habitat effectiveness at the landscape scale to meet the needs of big game in the winter range management area.

• Address habitat issues in big game winter range areas including the existing extent and distribution of cover, the quantity and quality of forage, and disturbance associated with roads and trails open to full-sized vehicles and OHVs.

Proposed Action

The Kahler project proposes to use variable density thinning with skips and gaps to reduce tree density, shift species composition, and promote old forest structure across approximately 11,000 acres within the project area. There will be an option to remove select young (<150 years old) grand fir and Douglas-fir trees that are 21 inches or greater in diameter and interacting with the crown of a desirable leave tree. Tree species preference will be for ponderosa pine and western larch. Diseased trees and those with severe mistletoe infestations will be targeted for removal where they are outside historical ranges. Trees may be removed using ground-based, skyline, or helicopter methods. Minimum snag and downed wood standards will be maintained. Thinning of western juniper (7 inches to 21 inches in diameter) may occur within commercial harvest units in order to reduce and/or eliminate its encroachment into upland forest stands and Class 4 riparian areas where it did not historically occur in order to maintain or improve the quality of upland forest habitat, the diversity and productivity of riparian plant communities, and water availability for native vegetation. The Proposed Action includes five amendments to the Umatilla Land and Resource Management Plan.

Possible Alternatives

The Forest Service developed 3 alternatives in response to issues raised by the public:

• No Action

• Proposed Action

• Alternative to the Propsed Action

Responsible Official

Kevin Martin, Forest Supervisor of the Umatilla National Forest will be the responsible official for making the decision and providing direction for the analysis.

Nature of Decision To Be Made

The responsible official will decide whether or not to authorize the proposal.

Preliminary Issues

The Forest Service has identified four issues from previous scoping:

• Issue 1: Thinning, juniper removal, prescribe fire and use of the road system have the potential to impact the quality, quantity and distribution (across the landscape and adjacent to open roads) of big game habitat within the analysis area. As a result, population levels and herd distribution may be impacted.

• Issue 2: Thinning would impact the quantity and distribution of dense multi-strata ponderosa pine and mixed conifer stands at the stand and larger landscape scale in the dry upland forest Potential Vegetation Group (Powell et al, 2007). Thinning may reduce the habitat for dense, multi-strata associated species of wildlife such as pileated woodpecker and other wildlife that utilize dense mixed conifer and ponderosa pine stands.

• Issue 3: Use of temporary roads and re-opening of existing closed roads has potential to increase sedimentation.

• Issue 4: Mechanical treatments in Class 4 RHCA's could increase sedimentation.

Addresses

John Evans, Project Manager, 72510 Coyote Road, Pendleton, OR 97801.

Ann Niesen, District Ranger, Heppner Ranger District, P.O. Box 7, Heppner, OR 97836.

Dated: July 18, 2014.
Kevin Martin,
Forest Supervisor.

[FR Doc. 2014-18142 Filed 7-31-14; 8:45 am]

BILLING CODE 3410-11-P